DEPARTMENT OF COMMERCE

Foreign-Trade Zones Board

[Order No. 1327]

Expansion of Foreign-Trade Zone 7; San Juan, PR, Area

Pursuant to its authority under the Foreign-Trade Zones Act of June 18, 1934, as amended (19 U.S.C. 81a-81u), the Foreign-Trade Zones Board (the Board) adopts the following Order:

Whereas, the Puerto Rico Industrial Development Company, grantee of Foreign-Trade Zone 7, submitted an application to the Board for authority to expand FTZ 7 to include five new sites (FTZ Docket 52-2003; filed 10/2/2003);

Whereas, notice inviting public comment was given in Federal Register (68 FR 58652-58653, 10/10/2003) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 7 is approved, subject to the Act and the Board's regulations, including § 400.28, and further subject to the Board's standard 2,000-acre activation limit.

Signed at Washington, DC, this 22nd day of April 2004.
James J. Jochum,
Assistant Secretary of Commerce for Import Administration, Alternate Chairman, Foreign-Trade Zones Board.
Attest:
Dennis Puccinelli,
Executive Secretary.

[FR Doc. 04-10667 Filed 5-10-04; 8:45 am]

BILLING CODE 3510-DS-P